DEPARTMENT OF COMMERCE

National Oceanic and Atmospheric Administration

[I.D. 030100B]

Submission for OMB Review; Proposed Information Collection; Comment Request

The Department of Commerce (DoC) has submitted to the Office of Management and Budget (OMB) for clearance the following proposal for collection of information under the provisions of the Paperwork Reduction Act (44 U.S.C. Chapter 35).

Agency: National Oceanic and Atmospheric Administration (NOAA).

Title: Designation of Fishery Management Council Members and Application for Reinstatement of State Authority.

Agency Form Number(s): n/a

OMB Approval Number: 0648-0314

Type of Request: Reinstatement, without change, of a previously approved collection for which approval has expired.

Burden Hours: 4,695

Number of Respondents: 54

Avg. Hours Per Response: Ranges between 1 hour and 120 hours depending on the requirement.

Needs and Uses: The Magnuson-Stevens Fishery Conservation and Management Act, as amended in 1996, provides for the nomination for members of Fishery Management Councils by state governors and Indian treaty tribes, for the designation of a principle state fishery official for the purposes of the Act, and for a request by a state for reinstatement of state authority over a managed fishery. The information submitted with these actions will be used to ensure that the requirements of the Act are being met.

Frequency: On occasion.

Respondent's Obligation: Mandatory.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated February 28, 2000.
Linda Engelmeier,
Department Forms Clearance Officer, Office of the Chief Information Officer.

[FR Doc. 00-5364 Filed 3-3-00; 8:45 am]

BILLING CODE 3510-22-F